DEPARTMENT OF LABOR

Employment and Training Administration

[TA-W-64,083]

American Axle & Manufacturing Detroit Manufacturing Complex Holbrook Avenue and Saint Aubin Including On-Site Leased Workers From Paint Tech International Detroit, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 24, 2008, applicable to workers of American Axle & Manufacturing, Detroit Manufacturing Complex, Detroit, Michigan. The Department's Notice was published in the Federal Register on December 10, 2008 (73 FR 75137).

The Department's Notice was amended on January 8, 2009 to clarify that the certification is to cover all workers of American Axle & Manufacturing, Detroit Manufacturing Complex, including those workers in forge and non-forge plants at Holbrook Avenue and Saint Aubin, Detroit, Michigan (subject firm). The Department's Notice was published in the Federal Register on January 15, 2009 (74 FR 2633).

The subject firm produces drivetrain components for the automotive industry including axle, steering, linkage, and other metal-formed products.

At the request of the State agency, the Department reviewed the certification for workers of the subject firm.

New information revealed that workers leased from Paint Tech International were employed on-site at the Detroit, Michigan location of American Axle & Manufacturing, Detroit Manufacturing Complex, Holbrook Avenue and Saint Aubin. The Department has determined that these workers were sufficiently under the control of American Axle & Manufacturing, Detroit Manufacturing Complex, Holbrook Avenue and Saint Aubin to be considered leased workers.

Based on these findings, the Department is amending this certification to include workers leased from Paint Tech International working on-site at the Detroit, Michigan location of American Axle & Manufacturing, Detroit Manufacturing Complex, Holbrook Avenue and Saint Aubin.

The amended notice applicable to TA-W-64,083 is hereby issued as follows:

All workers of American Axle & Manufacturing, Detroit Manufacturing Complex, Holbrook Avenue and Saint Aubin, including on-site leased workers from Paint Tech International, Detroit, Michigan, who became totally or partially separated from employment on or after September 16, 2007, through November 24, 2010, are eligible to apply for adjustment assistance under Section 223 of the Trade Act of 1974, and are also eligible to apply for alternative trade adjustment assistance under Section 246 of the Trade Act of 1974.

Signed at Washington, DC, this 18th day of November 2010.
Del Min Amy Chen,
Certifying Officer, Office of Trade Adjustment Assistance.

[FR Doc. 2010-30539 Filed 12-6-10; 8:45 am]

BILLING CODE 4510-FN-P